DEPARTMENT OF AGRICULTURE

Food and Nutrition Service

Agency Information Collection Activities: Proposed Collection; Comment Request—FNS User Access Request

AGENCY: Food and Nutrition Service, USDA.

ACTION: Notice.

SUMMARY: In accordance with the Paperwork Reduction Act of 1995, this notice invites the general public and other public agencies to comment on proposed information collections. The proposed collection is a revision of a currently approved collection. The purpose of this information collection request is the continued use of the electronic form FNS 674 entitled “FNS User Access Request”.

DATES: Written comments must be received on or before August 5, 2008.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Shawn Jones, Information Systems Security Program Manager (ISSPM), Food and Nutrition Service, U.S. Department of Agriculture, 3101 Park Center Drive, Room 317, Alexandria, Virginia 22302. Comments may also be submitted via fax to the attention of Shawn Jones at 703-305-2924 or via e-mail to Shawn.Jones@fns.usda.gov.

All written comments will be open for public inspection at the office of the Food and Nutrition Service during regular business hours (8:30 a.m. to 5 p.m., Monday through Friday) at 3101 Park Center Drive, Room 317, Alexandria, Virginia 22302.

All responses to this notice will be summarized and included in the request for OMB approval. All comments will be a matter of public record.

FOR FURTHER INFORMATION CONTACT: Requests for additional information or copies of this information collection should be directed to Shawn Jones, 703-305-2528.

SUPPLEMENTARY INFORMATION: Title: FNS User Access Request.

OMB Number: 0584-0532.

Form Number: FNS 674.

Expiration Date: November 30, 2008.

Type of Request: Revision of a currently approved collection.

Abstract: The FNS 674 is designed to collect user information required to gain access to FNS Information Systems.

Respondents: FNS Employees, Contractors, FNS Regions, State Agencies, Field Offices, Partners and Compliance Offices.

Estimated Number of Respondents: Two hundred twenty-five (225).

Number of Responses per Respondent: One (1).

Estimated Time per Response: 0.1666667 minutes.

Estimated Total Annual Burden on Respondents: 75.50145 hours.

Dated: May 30, 2008.
Roberto Salazar,
Administrator, Food and Nutrition Service.

[FR Doc. E8-12707 Filed 6-5-08; 8:45 am]

BILLING CODE 3410-30-P